DEPARTMENT OF DEFENSE

Office of the Secretary

Department of Defense (DoD) Civilian Physicians and Dentists Clinical Specialties and Tables; Correction

AGENCY: Department of Defense.

ACTION: Notice; correction.

SUMMARY: On Thursday, July 31, 2014 (79 FR 44426), the Department of Defense published a correction to a notice titled Department of Defense (DoD) Civilian Physicians and Dentists Clinical Specialties and Tables, which published in the Federal Register on Friday, July 25, 2014 (79 FR 43445-43446). Subsequent to the publication of the correction notice, the Department of Defense realized that there was one other correction that needed to be made that was not included in the correction of Thursday, July 31, 2014. This notice corrects this error.

DATES: This correction is effective on August 14, 2014.

SUPPLEMENTARY INFORMATION:

In the notice titled Department of Defense (DoD) Civilian Physicians and Dentists Clinical Specialties and Tables, which published in the Federal Register on Friday, July 25, 2014 (79 FR 43445-43446), make the following correction:

On page 43445, in the second column, in the table titled PAY TABLE 1—CLINICAL SPECIALTIES COVERED, “Other Assignments (Specialties not listed for tables 2-4)” should read “Other Assignments (Specialties not listed in tables 2-6).”

Dated: August 8, 2014.
Aaron Siegel,
Alternate OSD Federal Register Liaison Officer, Department of Defense.

[FR Doc. 2014-19184 Filed 8-13-14; 8:45 am]

BILLING CODE 5001-06-P